GENERAL SERVICES ADMINISTRATION

[OMB Control No. 3090-0112; Docket 2015-0001; Sequence 9]

Submission for OMB Review; Federal Management Regulation; State Agency Monthly Donation Report of Surplus Property, GSA Form 3040

AGENCY: Federal Acquisition Service, General Services Administration (GSA).

ACTION: Notice of request for public comments regarding a renewal to an existing OMB clearance.

SUMMARY: Under the provisions of the Paperwork Reduction Act, the Regulatory Secretariat Division will be submitting to the Office of Management and Budget (OMB) a request to review and approve an extension of a previously approved information collection requirement regarding State Agency Monthly Donation Report of Surplus Property, GSA Form 3040. A notice was published in the Federal Register at 80 FR 18843, on April 8, 2015. No comments were received.

DATES: Submit comments on or before August 14, 2015.

ADDRESSES: Submit comments identified by Information Collection 3090-0112, State Agency Monthly Donation Report of Surplus Personal Property by any of the following methods:

• Regulations.gov: http://www.regulations.gov. Submit comments via the Federal eRulemaking portal by searching for Information Collection 3090-0112. Select the link “Comment Now” that corresponds with “Information Collection 3090-0112; State Agency Monthly Donation Report of Surplus Personal Property” under the heading “Enter Keyword or ID” and select “Search”. Select the link “Submit a Comment” that corresponds with “Information Collection 3090-0112, State Agency Monthly Donation Report of Surplus Personal Property”. Follow the instructions provided on the screen. Please include your name, company name (if any), and “Information Collection 3090-0112, State Agency Monthly Donation Report of Surplus Personal Property” on your attached document.

• Mail: General Services Administration, Regulatory Secretariat Division (MVCB), 1800 F Street NW., Washington, DC 20405. ATTN: Ms. Flowers/IC 3090-0112, State Agency Monthly Donation Report of Surplus Personal Property.

Instructions: Please submit comments only and cite Information Collection 3090-0112, State Agency Monthly Donation Report of Surplus Personal Property, in all correspondence related to this collection. All comments received will be posted without change to http://www.regulations.gov, including any personal and/or business confidential information provided.

FOR FURTHER INFORMATION CONTACT: Joyce Spalding, Federal Acquisition Service, GSA at telephone 703-605-2888 or via email to joyce.spalding@gsa.gov.

SUPPLEMENTARY INFORMATION:

A. Purpose

This report complies with Public Law 94-519, which requires annual reports of donations of personal property to public agencies for use in carrying out such purposes as conservation, economic development, education, parks and recreation, public health, and public safety.

B. Annual Reporting Burden

Respondents: 55.

Responses per Respondent: 4.

Total Responses: 220.

Hours per Response: 1.5.

Total Burden Hours: 330.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the General Services Administration, Regulatory Secretariat Division (MVCB), 1800 F Street NW., Washington, DC 20006, telephone 202-501-4755. Please cite OMB Control No. 3090-0112, GSA Form 3040, State Agency Monthly Donation Report of Surplus Personal Property, in all correspondence.

Dated: July 6, 2015.
David Shive,
Acting Chief Information Officer.

[FR Doc. 2015-17374 Filed 7-14-15; 8:45 am]

BILLING CODE 6820-34-P